DEPARTMENT OF HOMELAND SECURITY

Coast Guard

33 CFR Part 100

[CGD08-03-036]

RIN 1625-AA08

Special Local Regulations for Marine Events; Ohio River, Miles 467.0 to 475.0 and Licking River, Miles 0.0 to 0.5; Cincinnati, OH

AGENCY: Coast Guard, DHS.

ACTION: Temporary final rule.

SUMMARY: The Coast Guard is establishing temporary special local regulations during the “2003 Tall Stacks Heritage Festival”, a marine event to be held from October 14, 2003 until October 20, 2003, on the waters of the Ohio River beginning at mile marker 467.0 and ending at mile marker 475.0, and on the waters of the Licking River beginning at mile marker 0.0 and ending at mile marker 0.5. These temporary special local regulations are necessary to provide for the safety of life on navigable waters during the event. This action is intended to control vessel traffic along portions of the Ohio and Licking Rivers during the event.

DATES: This rule is effective from 8 a.m. on October 14, 2003 until 1 p.m. on October 20, 2003.

ADDRESSES: Documents indicated in this preamble as being available in the docket are part of docket [CGD08-03-036] and are available for inspection or copying at Commander, Eighth Coast Guard District (m), Hale Boggs Federal Bldg., 501 Magazine Street, Room 1341, New Orleans, LA 70130 between 8 a.m. and 3:30 p.m., Monday through Friday, except Federal holidays.

FOR FURTHER INFORMATION CONTACT: Lieutenant (LT) Kevin Lynn, Project Manager for the Eighth Coast Guard District Commander, Hale Boggs Federal Bldg., 501 Magazine Street, New Orleans LA 70130, telephone (504) 589-6271.

SUPPLEMENTARY INFORMATION:

Regulatory Information

We did not publish a notice of proposed rulemaking (NPRM) for this regulation. Under 5 U.S.C. 553 (b)(B), the Coast Guard finds that good cause exists for not publishing an NPRM, and under 5 U.S.C. 553 (d)(3), good cause exists for making this rule effective less than 30 days after publication in the Federal Register. Publishing an NPRM and delaying its effective date would be contrary to public interest since immediate action is needed to protect vessels and mariners from the hazards associated with the “2003 Tall Stacks Heritage Festival”. This festival is expected to attract over 25,000 waterborne spectators, 17 paddle wheel vessels, hereafter referred to as participant vessels, and daily shoreside spectators in excess of 200,000. The potential for vessel collisions and damage to moored vessels is high. These temporary special local regulations will reduce the potential for collisions and damage by limiting the speed that vessels may transit through the regulated area.

Background and Purpose

Commencing on October 14, 2003 and lasting until October 20, 2003, the Greater Cincinnati Tall Stacks Commission will sponsor the “2003 Tall Stacks Heritage Festival”, on the waters of the Ohio River beginning at mile marker 467.0 and ending at mile marker 475.0 and on the waters of the Licking River beginning at mile marker 0.0 and ending at mile marker 0.5. The event will involve 17 participant vessels which will conduct excursions, races, parades and moored tours. Over 25,000 waterborne spectators are anticipated. Over 200,000 daily shoreside spectators are anticipated. In order to preserve the safety of the participant vessels, recreational vessels and shoreside spectators, temporary special local regulations are needed to control vessel traffic during the event. Vessel traffic will be temporarily restricted to provide for this safety. Vessels entering into the regulated area described in this rule are only authorized to do so at a no wake speed. Commercial towing vessels shall transit at the slowest safe speed to maintain steerageway and minimize wake. All vessels within the regulated area shall not anchor, loiter, impede participant vessels or pass within 20 feet of a moored participant vessel. The operator of any vessel in the regulated area shall stop the vessel immediately when directed to do so by any Coast Guard Patrol Commander and proceed as directed by any Coast Guard Patrol Commander.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary.

This regulated area has been narrowly tailored to impose the least impact on general navigation yet provide the level of safety deemed necessary. This rule only prevents traffic from transiting within 20 feet of a moored participant vessel and does not otherwise effect a closure of the Ohio and Licking Rivers. All commercial, spectator and recreational vessels will be allowed to transit through the regulated area provided that they are in compliance with these temporary special local regulations. The effect of this rule will not be significant due to the limited duration that the regulated area will be in effect and the extensive advance notifications that will be made to the maritime community via Local Notice to Mariners and marine information broadcasts.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: the owners or operators of recreational and commercial towing vessels intending to transit the Ohio River beginning at mile marker 467.0 and ending at mile marker 475.0 and the Licking River beginning at mile marker 0.0 and ending at mile marker 0.5, from 8 a.m. on October 14, 2003 until 1 p.m. on October 20, 2003.

This rule will not have a significant economic impact on a substantial number of small entities for the following reasons. This rule will be in effect for only a short period of time. All commercial, spectator and recreational vessels will be allowed to transit through the regulated area provided that they are in compliance with these temporary special local regulations. Before the effective period, we will notify the maritime community through Local Notice to Mariners and marine information broadcasts.

If you are a small business entity and are significantly affected by this regulation please contact LT Kevin Lynn, Project Manager for the Eighth Coast Guard District Commander, Hale Boggs Federal Bldg., 501 Magazine Street, New Orleans LA 70130, telephone (504) 589-6271.

Assistance for Small Entities

Under section 213(a) of the Small Business Regulatory Enforcement Fairness Act of 1996 (Pub. L. 104-121), we offered to assist small entities in understanding the rule so that they could better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a state, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not determined it as a significant energy action. Therefore, it does not require a Statement of Energy Effects under Executive Order 13211.

Environment

We have analyzed this rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(h), of the Instruction, from further environmental documentation. Paragraph (34)(h) states that special local regulations issued in conjunction with a regatta or marine parade permit are specifically excluded from further analysis and documentation.

Under figure 2-1, paragraph (34)(h), of the Instruction, an “Environmental Analysis Check List” and a “Categorical Exclusion Determination” are not required for this rule.

List of Subjects in 33 CFR Part 100

Harbors, Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 33 U.S.C. 1233; Department of Homeland Security Delegation No. 0170.1.

2. A new temporary § 100.35T-08-803 is added to read as follows:

§ 100.35T-08-803 Ohio River, Miles 467.0 to 475.0 and Licking River, Miles 0.0 to 0.5; Cincinnati, OH.

(a) Definitions.

Coast Guard Patrol Commander means a commissioned, warrant, or petty officer of the Coast Guard who has been designated by the Captain of the Port Louisville.

Participant means all vessels participating in the “2003 Tall Stacks Heritage Festival” under the auspices of the Marine Event Permit issued to the event sponsor and approved by the Captain of the Port Louisville.

Regulated area means the waters of the Ohio River beginning at mile marker 467.0 and ending at mile marker 475.0, and the waters of the Licking River beginning at mile marker 0.0 and ending at mile marker 0.5.

(b) Special local regulations. (1) All vessels entering into the regulated area are only authorized to do so at a no wake speed.

(2) Commercial towing vessels shall transit through the regulated area at the slowest safe speed to maintain steerageway and minimize wake.

(3) All vessels within the area shall not anchor, loiter, impede participant vessels or pass within 20 feet of a moored participant vessel.

(4) The operator of any vessel in the regulated area shall:

(i) Stop the vessel immediately when directed to do so by any Coast Guard Patrol Commander.

(ii) Proceed as directed by any Coast Guard Patrol Commander.

(c) Effective date. This section is effective from 8 a.m. on October 14, 2003 until 1 p.m. on October 20, 2003.

Dated: September 18, 2003.
R.F. Duncan,
Rear Admiral, U.S. Coast Guard, Commander, Eighth Coast Guard District.

[FR Doc. 03-25413 Filed 10-7-03; 8:45 am]

BILLING CODE 4910-15-P